DEPARTMENT OF STATE

[Public Notice 7570]

30-Day Notice of Proposed Information Collection: Passport Demand Forecasting Study Phase III, OMB Number 1405-0177

ACTION: Notice of request for public comment and submission to OMB of proposed collection of information.

SUMMARY: The Department of State has submitted the following information collection request to the Office of Management and Budget (OMB) for approval in accordance with the Paperwork Reduction Act of 1995.

• Title of Information Collection: Passport Demand Forecasting Study Phase III.

• OMB Control Number: OMB Number 1405-0177.

• Type of Request: Revision of a Currently Approved Collection.

• Originating Office: Bureau of Consular Affairs, Office of Passport Services CA/PPT.

• Form Number: SV2011-0010.

• Respondents: A national representative sample of all U.S. Citizens and U.S. Nationals, who are 16 years of age or older, that are eligible and entitled to a United States Passport product.

• Estimated Number of Respondents: 4,000 survey respondents per month.

• Estimated Number of Responses: 48,000 survey responses annually.

• Average Hours per Response: 10 minutes per survey.

• Total Estimated Burden: 8,000 hours annually.

• Frequency: Monthly.

• Obligation to Respond: Voluntary.

DATES: Submit comments to the Office of Management and Budget (OMB) for up to 30 days from August 29, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Edward M. Worthan, 2100 Pennsylvania Ave., NW., SA-29, Room 3004, Washington, DC 20037, who may be reached on 202-663-1073 or at WorthanEM@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

The Intelligence Reform and Terrorism Prevention Act requires the Secretary of Homeland Security, in discussion with the Secretary of State, to develop and implement a plan to require U.S. Citizens and U.S. Nationals to present a passport and/or other sufficient documentation of identity and citizenship when entering the United States.

The plan to require U.S. Citizens and U.S. Nationals to present a passport has required the Office of Passport Services to obtain regular statistical data on issues that focus on, and are related to, travel and passport applications. This data will be used to monitor, assess, and forecast U.S. passport demand on a continuous basis. In support of these efforts, the Office of Passport Services will conduct monthly and incremental forecasts of national passport demand. This data will provide the ability for the Office of Passport Services to refine volume and timing estimates about passport demand, and will also provide the ability to gauge public reaction to economic and socio-demographic changes.

Methodology:

The Office of Passport Services will conduct monthly Passport Demand Forecasting Studies using multiple methodologies. Methodologies can include mail, Web/Internet, telephone, and mixed mode surveys to ensure that the Office of Passport Services reaches the appropriate audience and leverages the best research method to obtain valid responses. The survey data will cover an estimated 48,000 respondents annually and will include variables covering passport, travel, and socio-demographic variables of interest to the Office of Passport Services.

Dated: August 22, 2011.
Florence G. Fultz,
Deputy Assistant Secretary (Acting) Passport Services, Bureau of Consular Affairs, Department of State.

[FR Doc. 2011-21994 Filed 8-26-11; 8:45 am]

BILLING CODE 4710-06-P